DEPARTMENT OF LABOR

Employment and Training Administration

Labor Certification Process for Temporary Agricultural Employment of Nonimmigrant Workers in the United States (H-2A Workers); Cancellation of the Formal Briefing Scheduled To Be Held in Nashville, Tennessee, Highlighting the H-2A On-Line Application Processing System

AGENCY: Employment and Training Administration, Labor.

ACTION: Cancellation of formal briefing.

SUMMARY: Due to a lack of response from the regulated community and other interested parties in the Nashville, Tennessee, area, the Division of Foreign Labor Certification, Employment and Training Administration (ETA), Department of Labor, is canceling the previously announced formal briefing to be held on Thursday, January 22, 2004, from 9:30 a.m. to 4 p.m., in Nashville, Tennessee, and is instead concentrating its efforts on the January 15, 2004, employer briefing scheduled at the Holiday Inn Boxborough, 242 Adams Place, Boxborough, Massachusetts 01719 from 9:30 a.m. to 4 p.m. See 68 FR 69725 (December 15, 2003).

FOR FURTHER INFORMATION CONTACT: Charlene Giles; telephone (202) 693-2950. (This is not a toll-free number.)

SUPPLEMENTARY INFORMATION: The formal public briefings will be chaired by an official of the Employment and Training Administration. Persons appearing at the briefings will be allowed a hands on experience with the system and to pose questions to Department staff.

Signed at Washington, DC, this 8th day of January, 2004.
Emily Stover DeRocco,
Assistant Secretary, for Employment and Training.

[FR Doc. 04-662 Filed 1-12-04; 8:45 am]

BILLING CODE 4510-30-U